DEPARTMENT OF HOMELAND SECURITY

National Protection and Programs Directorate

[Docket No. DHS-2010-0071]

Agency Information Collection Activities: Office of Infrastructure Protection; Chemical Security Awareness Training Program

AGENCY: National Protection and Programs Directorate, DHS.

ACTION: 30-day notice and request for comments; extension of a currently approved Information Collection: 1670-0009.

SUMMARY: The Department of Homeland Security (DHS), National Protection and Programs Directorate (NPPD), Office of Infrastructure Protection (IP), Sector-Specific Agency Executive Management Office (SSA EMO), will submit the following information collection request (ICR) to the Office of Management and Budget (OMB) for review and clearance in accordance with the Paperwork Reduction Act of 1995 (Pub. L. 104-13, 44 U.S.C. Chapter 35). NPPD is soliciting comments concerning the extension of a currently approved information collection request (ICR) for the Chemical Security Awareness Training Program. DHS previously published this ICR in the Federal Register on August 27, 2010 at 75 FR 52768, for a 60-day public comment period. DHS received no comments. The purpose of this notice is to allow an additional 30 days for public comments.

DATES: Comments are encouraged and will be accepted until December 6, 2010. This process is conducted in accordance with 5 CFR 1320.10.

ADDRESSES: Interested persons are invited to submit written comments on the proposed information collection to the Office of Information and Regulatory Affairs, OMB. Comments should be addressed to OMB Desk Officer, Department of Homeland Security, Office of Civil Rights and Civil Liberties. Comments must be identified by DHS-2010-0071 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: The Chemical Sector-Specific Agency, within the DHS/NPPD/IP/SSA EMO, provides an online voluntary training program to improve security in the chemical industry sector. Information is automatically collected in a computer database as result of individuals engaging in the training. Explicit reporting or recordkeeping is not required. The training is designed for the general chemical facility employee. U.S. chemical industry direct employment is about 850,000 (2009 per American Chemistry Council); approximately 400,000 employees are estimated as potential participants. Estimated duration in the first year to complete the registration, training, and survey is 60 minutes, and less if individuals complete refresher training in succeeding years. Minimal participation data is collected as trainees complete the online exercises. Upon completion, a Certificate of Completion is generated at the trainee's computer work station, printed, and optionally e-mailed to a facility supervisor. DHS will monitor program participation, success in training, and basic distribution variables submitted upon registration.

Analysis

Agency: Department of Homeland Security, National Protection and Programs Directorate, Office of Infrastructure Protection, Sector-Specific Agency Executive Management Office.

Title: Chemical Security Awareness Training Program.

OMB Number: 1670-0009.

CSATP Registration

Frequency: Annually.

Affected Public: Private Sector.

Number of Respondents: 400,000.

Estimated Time per Respondent: .17 hours.

Total Burden Hours: 68,000 annual burden hours.

Total Burden Cost (capital/startup): $0.

Total Burden Cost (operating/maintaining): $2,720,000.

CSATP Module

Frequency: Annually.

Affected Public: Private Sector.

Number of Respondents: 400,000.

Estimated Time per Respondent: .66 hours.

Total Burden Hours: 264,000.

Total Burden Cost (capital/startup): $0.

Total Burden Cost (operating/maintaining): $10,560,000.

CSATP Survey

Frequency: Annually.

Affected Public: Private Sector.

Number of Respondents: 400,000.

Estimated Time per Respondent: .17 hours.

Total Burden Hours: 68,000.

Total Burden Cost (capital/startup): $0.

Total Burden Cost (operating/maintaining): $2,720,000.

Dated: October 29, 2010.
David Epperson,
Acting Chief Information Officer, National Protection and Programs Directorate, Department of Homeland Security.

[FR Doc. 2010-28022 Filed 11-4-10; 8:45 am]

BILLING CODE P